DEPARTMENT OF THE TREASURY

Office of the Comptroller of the Currency

Agency Information Collection Activities: Information Collection Renewal; Comment Request

AGENCY: Office of the Comptroller of the Currency (OCC), Treasury.

ACTION: Notice and request for comment.

SUMMARY: The OCC, as part of its continuing effort to reduce paperwork and respondent burden, invites the general public and other Federal agencies to comment on the renewal of an information collection, as required by the Paperwork Reduction Act of 1995. An agency may not conduct or sponsor, and a respondent is not required to respond to, an information collection unless it displays a currently valid Office of Management and Budget (OMB) control number. The OCC is soliciting comment concerning the renewal of an information collection titled, “Record and Disclosure Requirements—Consumer Financial Protection Bureau Regulations B, C, E, M, Z, and DD and Board of Governors of the Federal Reserve System Regulation CC.”

DATES: Comments must be submitted on or before January 13, 2014. ADDRESSES: Because paper mail in the Washington, DC area and at the OCC is subject to delay, commenters are encouraged to submit comments by email if possible. Comments may be sent to: Legislative and Regulatory Activities Division, Office of the Comptroller of the Currency, Attention: 1557-0176, 400 7th Street SW., Suite 3E-218, Mail Stop 9W-11, Washington, DC 20219. In addition, comments may be sent by fax to (571) 465-4326 or by electronic mail to regs.comments@occ.treas.gov. You may personally inspect and photocopy comments at the OCC, 400 7th Street SW., Washington, DC 20219. For security reasons, the OCC requires that visitors make an appointment to inspect comments. You may do so by calling (202) 649-6700. Upon arrival, visitors will be required to present valid government-issued photo identification and to submit to security screening in order to inspect and photocopy comments.

All comments received, including attachments and other supporting materials, are part of the public record and subject to public disclosure. Do not enclose any information in your comment or supporting materials that you consider confidential or inappropriate for public disclosure.

FOR FURTHER INFORMATION CONTACT: You may request additional information or a copy of the collection and supporting documentation submitted to OMB by contacting: Johnny Vilela or Mary H. Gottlieb, OCC Clearance Officers (202) 649-5490, Legislative and Regulatory Activities Division, Office of the Comptroller of the Currency, 400 7th Street SW., Washington, DC 20219.

SUPPLEMENTARY INFORMATION:

Title: Record and Disclosure Requirements—Consumer Financial Protection Bureau (CFPB) Regulations B, C, E, M, Z, and DD and Board of Governors of the Federal Reserve System (FRB) Regulation CC.

OMB Control No.: 1557-0176.

Type of Review: Regular review.

Description: This information collection covers CFPB Regulations B, C, E, M, Z, and DD and FRB Regulation CC. The CFPB and FRB Regulations include the following provisions:

Reg B—12 CFR 1002—Equal Credit Opportunity

This regulation prohibits lenders from discriminating against credit applicants, establishes guidelines for gathering and evaluating information about personal characteristics in applications for certain dwelling-related loans, requires lenders to provide applicants with copies of appraisal reports in connection with credit transactions, and requires written notification of action taken on a credit application.

Reg C—12 CFR 1003—Home Mortgage Disclosure

This regulation requires certain mortgage lenders to report certain home loan application information and to disclose certain data regarding their home mortgage lending.

Reg E—12 CFR 1005—Electronic Fund Transfers

This regulation establishes the rights, liabilities, and responsibilities of parties in electronic fund transfers and offers protections to consumers when they use such systems.

Reg M—12 CFR 1013—Consumer Leasing

This regulation implements the consumer leasing provisions of the Truth in Lending Act by requiring meaningful disclosure of leasing terms.

Reg Z—12 CFR 1026—Truth in Lending

This regulation prescribes uniform methods for computing the cost of credit, disclosing credit terms and costs, and resolving errors on certain types of credit accounts.

Reg CC—12 CFR 1029—Availability of Funds and Collection of Checks

This regulation establishes timeframes to govern the availability of funds deposited in checking accounts, rules to govern the collection and return of checks, and general provisions to govern the use of substitute checks.

Reg DD—12 CFR 1030—Truth in Savings

This regulation requires depository institutions to provide disclosures sufficient to enable consumers to make informed comparisons about accounts at depository institutions.

Affected Public: Businesses or other for-profit.

Burden Estimates:

Estimated Number of Respondents: 1,700.

Estimated Annual Burden: 4,756,910 hours.

Frequency of Response: On occasion.

Comments: Comments submitted in response to this notice will be summarized and included in the request for OMB approval. All comments will become a matter of public record. Comments are invited on:

(a) Whether the collection of information is necessary for the proper performance of the functions of the OCC, including whether the information has practical utility;

(b) The accuracy of the OCC's estimate of the information collection burden;

(c) Ways to enhance the quality, utility, and clarity of the information to be collected;

(d) Ways to minimize the burden of the collection on respondents, including through the use of automated collection techniques or other forms of information technology; and

(e) Estimates of capital or start-up costs and costs of operation, maintenance, and purchase of services to provide information.

Dated: November 7, 2013.
Stuart E. Feldstein,
Director, Legislative and Regulatory Activities Division.

[FR Doc. 2013-27128 Filed 11-12-13; 8:45 am]

BILLING CODE 4810-33-P